DEPARTMENT OF COMMERCE

National Oceanic and Atmospheric Administration

Agency Information Collection Activities; Submission to the Office of Management and Budget (OMB) for Review and Approval; Comment Request; Pacific Islands Region Permit Family of Forms

AGENCY: National Oceanic and Atmospheric Administration (NOAA), Commerce.

ACTION: Notice of information collection, request for comments.

SUMMARY: The Department of Commerce, in accordance with the Paperwork Reduction Act of 1995 (PRA), invites the general public and other Federal agencies to comment on proposed and continuing information collections, which helps us assess the impact of our information collection requirements and minimize the public's reporting burden. The purpose of this notice is to allow for 60 days of public comment preceding submission of the collection to OMB.

DATES: To ensure consideration, comments regarding this proposed information collection must be received on or before November 15, 2021.

ADDRESSES: Interested persons are invited to submit written comments to Adrienne Thomas, NOAA PRA Officer, at Adrienne.thomas@noaa.gov. Please reference OMB Control Number 0648-0490 in the subject line of your comments. Do not submit Confidential Business Information or otherwise sensitive or protected information.

FOR FURTHER INFORMATION CONTACT: Requests for additional information or specific questions related to collection activities should be directed to Walter Ikehara, Fishery Information Specialist, National Marine Fisheries Service (NMFS), Pacific Islands Regional Office, 1845 Wasp Blvd., Bldg. 176, Honolulu, HI 96818, (808) 725-5175, walter.ikehara@noaa.gov.

SUPPLEMENTARY INFORMATION:

I. Abstract

This request is for a revision to merge the permit application forms from two currently approved information collections, 0648-0463 Pacific Islands Region Coral Reef Ecosystem Permit Form and 0648-0577 Non-commercial Permit and Reporting Requirements in the Main Hawaiian Islands bottomfish fishery, into the currently approved collection 0648-0490 Pacific Islands Region Permit Family of Forms, and to extend all included collections to the 0648-0490 expiration date of 3/31/2024. 0648-0463 will be discontinued after the revision is approved. The reporting collection of 0648-0577 will be continued.

The Magnuson-Stevens Fishery Conservation and Management Act established the Western Pacific Fishery Management Council (Council), to develop fishery ecosystem plans (FEP) for fisheries in the U.S. Exclusive Economic Zone (EEZ) and high seas of the Pacific Islands Region. These plans, if approved by the Secretary of Commerce, are implemented in Federal regulations by the NOAA NMFS and enforced by NOAA's Office of Law Enforcement and the U.S. Coast Guard (USCG), in cooperation with state and territorial agencies. FEPs establish a management regime and Federal regulations control fishing to prevent overfishing and to ensure the long-term productivity and social and economic benefit of the resources.

Regulations at 50 CFR 665 Subpart F require that a vessel used to fish with longline gear for western Pacific pelagic management unit species (PMUS), land or transship longline caught PMUS, or receive longline caught PMUS from a longline vessel, within the EEZ or management subarea around U.S. islands in the central and western Pacific must be registered to a valid Federal fishing permit. The regulations also require that a vessel used to fish with squid jig gear for pelagic squid species listed in the western Pacific PMUS within the EEZ or management subareas around U.S. islands in the central and western Pacific, or fish with troll and handline gear for PMUS in allowed locations within the EEZ around each of the Pacific Remote Island Areas (PRIA), must be registered to a valid Federal fishing permit.

Regulations at 50 CFR 665 Subparts D and E require that the owner of a vessel used to fish for, land, or transship bottomfish management unit species (BMUS) or ecosystem component species (ECS) using a large vessel (50 ft or longer) in the Guam management subarea, fish commercially for BMUS or ECS in the Commonwealth of the Northern Mariana Islands management subarea, or fish for BMUS or ECS in allowed locations within the EEZ around each of the PRIA, must register it to a valid Federal fishing permit.

Regulations at 50 CFR 665 Subparts B, C, D, and E, require that the owner of a vessel used to fish for, land, or transship crustacean management unit species or ECS in the EEZ or management subareas around American Samoa, Hawaii, Guam, Northern Mariana Islands, or in allowed locations within the EEZ around each of the PRIA, must register it to a valid Federal fishing permit. The regulations also require that a vessel used to fish for precious corals within the EEZ or management subarea around U.S. islands in the central and western Pacific must be registered to a valid Federal fishing permit for a specific precious coral permit area.

Regulations at 50 CFR 665 Subparts B, C, D, and E, require any person in the Pacific Islands Region (1) fishing for, taking, retaining, or using a vessel to fish for coral reef ECS in designated low-use Marine Protected Areas, (2) fishing for any of these species using gear not specifically allowed in the regulations, or (3) fishing for, taking, or retaining any of these species in a coral reef ecosystem management subarea, to obtain and carry a special permit. A receiving vessel owner must also have a transshipment permit for at-sea transshipment of coral reef ecosystem component species. The permit application provides information about the applicant, vessel, fishing gear and method, target species, and projected fishing effort so NMFS and the Council can determine permit eligibility in consultation with the USCG, state or territory fisheries agency, and/or the U.S. Fish and Wildlife Service.

Regulations at 50 CFR 665 Subpart C require that all participants (including vessel owners, operators, and crew) in the boat-based non-commercial bottomfish fishery in the Exclusive Economic Zone around the Main Hawaiian Islands to obtain a Federal bottomfish permit. Participants are exempt if they hold a current State of Hawaii Commercial Marine License.

The information collected is needed to identify participants in the fishery, determine qualifications for permitting, support effective enforcement of fishery regulations, facilitate fisheries management, and provide a communication link between NMFS and fishermen.

II. Method of Collection

Respondents may submit applications and required documents via secure email, or via online application systems when implemented.

III. Data

OMB Control Number: 0648-0490.

Form Number(s): None.

Type of Review: Regular submission (Revision and extension of an existing collection).

Affected Public: Business or other for-profit organizations; individuals or households.

Estimated Number of Respondents: 281.

Estimated Time per Response: Hawaii longline limited entry permit: Renew via secure email—30 min; renew online—15 min; transfer—1 hr.; apply for closed area exemption—2 hr. American Samoa longline limited entry permit: Renew or apply for additional permit via secure email—45 min; transfer—1 hr. 15 min. All other permits: Apply via secure email—30 min. Permit appeal—2 hr.

Estimated Total Annual Burden Hours: 150.5.

Estimated Total Annual Cost to Public: $17,655.48.

Respondent's Obligation: Mandatory.

Legal Authority: 50 CFR 665.

IV. Request for Comments

We are soliciting public comments to permit the Department to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this Information Collection Request. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-19815 Filed 9-14-21; 8:45 am]

BILLING CODE 3510-22-P